DEPARTMENT OF COMMERCE

International Trade Administration

Revised European Port Infrastructure and Security Trade Mission to Germany, Belgium and Italy, May 4-8, 2009

AGENCY: International Trade Administration, Department of Commerce.

ACTION: Notice.

Mission Statement

Revised European Port Infrastructure and Security Trade Mission to Germany, Belgium and Italy, May 4-8, 2009.

Mission Description

The United States Department of Commerce's International Trade Administration, U.S. and Foreign Commercial Service, is organizing a Trade Mission to Germany, Belgium and Italy, May 4-8, 2009. This event is intended to tap immediate opportunities in port infrastructure, and security and logistics in Hamburg, Germany; Antwerp, Belgium; and Genoa, Italy. Because these ports are key gateways to the Western European market, companies from countries beyond Germany, Belgium, and Italy will be informed about the mission and encouraged to meet with the U.S. participants.

The program will focus on several major areas, including, but not limited to, the following:

(1) Port safety and security, including container tagging, chemical and radiation detection equipment, electronic container seals, tracking equipment, virtual simulation products and other high-technology security items, and training (such as first responder);

(2) Port logistics and infrastructure, including supply chain, communications, crisis management, risk management products, disaster control shore-based electricity, inland connections, terminal railroad infrastructure, pipelines and other solutions for liquid bulk and petrochemical products;

(3) Port environment, including reduced emissions, clean engine developments and GreenPorts Certification; and

(4) European maritime policies.

The trade mission will expose participating companies to procurement opportunities in maritime ports and showcase U.S. technology, which is highly regarded and maintains a competitive edge in Europe.

Commercial Setting

As in other markets, Europe places a strong emphasis on homeland security, transportation, environmental safety and critical infrastructure development. The need for information exchange and security concerning the maritime industry continues to create opportunities in the maritime sector in Europe. Approximately 90 percent of the transport of goods to and from the European Union is by sea. The European Union has adopted rules regarding maritime safety and security to ensure quality shipping that respects the environment and guarantees an optimal level of protection. The current European maritime transport policy calls for safety and security measures that will allow the European maritime industry to continue making the most of its already prominent role to maximize its competitive position. The major focus is on environmental impact, safety, unification and simplification of procedures. This scenario will provide excellent opportunities for U.S. companies operating in a variety of areas.

End-users consider the U.S. security equipment industry to be a leader in the global marketplace. U.S. producers will continue to have a competitive advantage because of their know-how and technological edge. Solutions to be considered will include, among many other items, handheld scanners, pagers, portal monitors, radiation identification devices, cargo and baggage screening equipment, non-intrusive inspection technology, access control and identification systems, video surveillance equipment and communication software for data integration.

In European ports, a strong demand is developing for emissions-reducing technologies. This demand is triggered mainly by European Union legislation pushing for important reductions in gaseous emissions, especially greenhouse gases, CO, NOX and SOx. The underlying political drivers are the EU's commitment to the Kyoto Protocol and its Clean Air For Europe (CAFE) program. As EU Member states have some freedom in the actual implementation of the EU legislation, and they will likely pass on the burden to execute the national emission-reduction targets to the port areas, which are notorious polluters. Key commercial leads will include any and all technologies that lead to higher energy efficiency of both onshore (port facilities and infrastructure) and offshore (vessels) equipment. Examples are shore-based electricity networks (“cold ironing”), exhaust filters for diesel engines and power plants, and low-sulfur fuels. As the legislative process is ongoing, companies interested in this area could benefit from developing relations with port authorities and other semi-public stakeholders as direct sources of information in the future.

Mission Goals

The trade mission's goal is to introduce U.S. exporters of port-related equipment, systems, and services to potential public and private end-users and partners, including potential agents, distributors, and licensees, with the aim of creating business partnerships that will contribute to increasing U.S. exports to European markets.

Mission Scenario

The mission will include meetings with individuals from both the public sector (e.g., port authorities and customs officials) and private business (e.g., shipping agents, marine terminal operators, and local security systems companies). In each country, participants will receive a briefing that will include market intelligence, as well as an overview of the country's economic and political environment. A networking reception is planned at each stop. The mission will also include a brief tour of the ports of Hamburg, Antwerp and Genoa, briefings by port authorities on planned projects and expected infrastructure and security needs, and one-on-one business meetings between U.S. participants and potential end-users and partners. Follow-on business meetings in other countries in the region can be set up before or after the trade mission for an additional price, depending on participants' wishes.

Proposed Timetable

The proposed schedule allows for about a day and a half in each port area. Efforts will be made to accommodate participating companies with particular interests that require individual schedules within one stop.

Sunday, May 3, through Tuesday, May 5, 2009 | Mission begins in Hamburg, Germany.
| Welcome briefing.
| Business matchmaking: 1 full day of appointments.
| Tour of port.
| Networking reception.
| Participants will depart Hamburg the morning of Tuesday, May 5, by air, and proceed to Brussels, Belgium.
Tuesday, May 5, through Thursday, May 7 | Mission's second stop: Antwerp, Belgium (via mini-bus from Brussels).
| Welcome briefing.
| Tour of port.
| Networking reception.
| Business matchmaking: 1 full day of appointments.
| The delegation will depart Belgium via Brussels the morning of May 7 and proceed to Milan, Italy.
Thursday, May 7, through Friday, May 8 | Mission's third and last stop: Genoa, Italy.
| Welcome briefing.
| Business matchmaking: 1 full day of appointments.
| Tour of port.
| Networking reception.
| Participants are free to depart for their home destinations on the evening of May 8.

Criteria for Participation and Selection

A minimum of 8 and a maximum of 15 companies will be selected to participate in the mission from the applicant pool. The target participants will include U.S. companies specializing in security, infrastructure, environmental protection, and communications systems. As large European ports attract all sorts of industries, U.S. applicants with business interests in other sectors will also be considered.

Fees and Expenses

After a company has been selected to participate in the mission, a payment to the Department of Commerce in the form of a participation fee is required. The participation fee is $3,000 per company for small or medium enterprises (SME *) and $3,700 per company for large firms. The fee for each additional firm representative (large firm or SME) is $500 per person. Expenses for lodging, most transportation (except, for example, bus transportation to Antwerp, Belgium), most meals, and incidentals will be the responsibility of each mission participant.

* An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation

• Suitability of the company's products or services to the target sectors and markets;

• Applicant's potential for business in the target markets, including likelihood of exports resulting from the mission; and

• Relevance of the company's business line to the mission's goals.

Referrals from political organizations and any documents containing references to partisan political activities (including political contributions) will be removed from an applicant's submission and not considered during the selection process.

Timeframe for Recruitment and Applications

Mission recruitment will be conducted in an open and public manner. Outreach will include posting on the Commerce Department trade mission calendar http://www.ita.doc.gov/doctm/tmcal.html and other Internet Web sites, press releases to general and trade media, direct mail, broadcast fax, notices by industry trade associations and other multiplier groups, and publicity at industry meetings, symposia, conferences, and trade shows. The U.S. Commercial Service offices in Italy, Germany and Belgium, in cooperation with port area U.S. Export Assistance Centers and the Global Safety and Security, Environmental, and Europe Teams will lead recruitment activities.

The mission will open on a first come first served basis. Recruitment will begin immediately and close March 23, 2009. Applications received after March 23, 2009, will be considered only if space and scheduling constraints permit. Interested U.S. firms may contact the mission project officer listed below or visit the mission Web site: http://www.buyusa.gov/europe/security_events.html#_section2.

Contacts

Greg Thompson, Senior International Trade Specialist, e-mail: greg.thompson@mail.doc.gov, U.S. Commercial Service, North Texas USEAC, Tel: 214-712-1932, Fax: 214-746-6799.

Maria Calabria, Commercial Specialist, e-mail: maria.calabria@mail.doc.gov, U.S. Commercial Service Italy, Via Vittorio Veneto 119/A, 00187 Rome, Italy, Tel: 011-39-06 4674 2427/2382, Fax: 011-39-06 4674 2113.

Dated: March 6, 2009.
Greg Thompson,
Senior International Trade Specialist, U.S. Commercial Service, North Texas USEAC.

[FR Doc. E9-5294 Filed 3-10-09; 8:45 am]

BILLING CODE 3510-DS-P